NUCLEAR REGULATORY COMMISSION

[NRC-2014-0093]

Medical Evaluation of Licensed Personnel for Nuclear Power Plants

AGENCY: Nuclear Regulatory Commission.

ACTION: Draft regulatory guide; request for comment.

SUMMARY: The U.S. Nuclear Regulatory Commission (NRC) is issuing for public comment draft regulatory guide (DG), DG-1310, “Medical Evaluation of Licensed Personnel for Nuclear Power Plants,” which would be Revision 4 to Regulatory Guide (RG) 1.134. The NRC proposes to update RG 1.134 based upon the regulatory experience gained since Revision 3 of RG 1.134 was issued and to endorse the 2013 revision to the underlying consensus standard, ANSI/ANS 3.4, “Medical Certification and Monitoring of Personnel Requiring Licenses for Nuclear Power Plants.” The guide helps to ensure that medical certifications (and related medical evidence) are sufficient to meet the NRC's nuclear power reactor operator licensing requirements.

DATES: Submit comments by May 27, 2014. Comments received after this date will be considered if it is practical to do so, but the NRC is able to ensure consideration only for comments received on or before this date. Although a time limit is given, comments and suggestions in connection with items for inclusion in guides currently being developed or improvements in all published guides are encouraged at any time.

ADDRESSES: You may submit comments by any of the following methods (unless this document describes a different method for submitting comments on a specific subject):

• Federal Rulemaking Web site: Go to http://www.regulations.gov and search for Docket ID NRC-2014-0093. Address questions about NRC dockets to Carol Gallagher; telephone: 301-287-3422; email: Carol.Gallagher@nrc.gov. For technical questions, contact the individual(s) listed in the FOR FURTHER INFORMATION CONTACT section of this document.

• Mail comments to: Cindy Bladey, Office of Administration, Mail Stop: 3WFN-06-44M, U.S. Nuclear Regulatory Commission, Washington, DC 20555-0001.

For additional direction on accessing information and submitting comments, see “Accessing Information and Submitting Comments” in the SUPPLEMENTARY INFORMATION section of this document.

FOR FURTHER INFORMATION CONTACT: Lawrence Vick, 301-415-3181, email: Lawrence.Vick@nrc.gov, or Richard Jervey, 301/251-7404, email: Richard.Jervey@nrc.gov; U.S. Nuclear Regulatory Commission, Washington, DC 20555-0001.

SUPPLEMENTARY INFORMATION:

I. Accessing Information and Submitting Comments

A. Accessing Information

Please refer to Docket ID NRC-2014-0093 when contacting the NRC about the availability of information regarding this document. You may access publicly-available information related to this document by any of the following methods:

• Federal Rulemaking Web site: Go to http://www.regulations.gov and search for Docket ID NRC-2014-0093.

• NRC's Agencywide Documents Access and Management System (ADAMS): You may access publicly available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The draft regulatory guide is available electronically under ADAMS Accession Number ML13352A278. The regulatory analysis may be found in ADAMS under Accession No. ML13352A279.

Regulatory guides are not copyrighted, and NRC approval is not required to reproduce them.

• NRC's PDR: You may examine and purchase copies of public documents at the NRC's PDR, Room O1-F21, One White Flint North, 11555 Rockville Pike, Rockville, Maryland 20852.

B. Submitting Comments

Please include Docket ID NRC-2014-0093 in the subject line of your comment submission, in order to ensure that the NRC is able to make your comment submission available to the public in this docket.

The NRC cautions you not to include identifying or contact information that you do not want to be publicly disclosed in your comment submission. The NRC will post all comment submissions at http://www.regulations.gov as well as enters the comment submissions into ADAMS. The NRC does not routinely edit comment submissions to remove identifying or contact information.

If you are requesting or aggregating comments from other persons for submission to the NRC, then you should inform those persons not to include identifying or contact information that they do not want to be publicly disclosed in their comment submission. Your request should state that the NRC will not edit comment submissions to remove such information before making the comment submissions available to the public or entering the comment submissions into ADAMS.

II. Additional Information

The NRC is issuing for public comment a DG in the NRC's “Regulatory Guide” series. This series was developed to describe and make available to the public such information as methods that are acceptable to the NRC staff for implementing specific parts of the NRC's regulations, techniques that the staff uses in evaluating specific problems or postulated accidents, and data that the staff needs in its review of applications for permits and licenses.

The DG, entitled, “Medical Evaluation of Licensed Personnel for Nuclear Power Plants,” is temporarily identified by its task number, DG-1310. Draft regulatory guide, DG-1310, is proposed Revision 4 of RG 1.134. The guidance is intended for use by nuclear power plant license holders under part 50 of Title 10 of the Code of Federal Regulations (10 CFR), “Domestic Licensing of Production and Utilization Facilities,” and 10 CFR part 52, “Licenses, Certifications, and Approvals for Nuclear Power Plants.” Licensees of these facilities are required under 10 CFR 50.54, “Conditions of Licensees,” to use qualified licensed operators as described in 10 CFR Part 55, “Operators' Licenses.”

Regulatory Guide 1.134, “Medical Evaluation of Licensed Personnel for Nuclear Power Plants,” Revision 3, was issued in 1998 to identify that the contemporary version of consensus standard ANSI/ANS 3.4 (1996), “Medical Certification and Monitoring of Personnel Requiring Operator Licenses for Nuclear Power Plants,” is a method acceptable to the staff for complying with those portions of the NRC's regulations associated with approval or acceptance of medical examination certifications at nuclear power plants.

The consensus standard ANSI/ANS 3.4 was issued in 2013 to provide clarification and comprehensive medical guidance to improve industry's consistent implementation of the standard. This included clarification of specific minimum requirements, disqualifying conditions, conditional restrictions, examination methods, and monitoring methods for each medical area. The 2013 issue also includes consideration of other industry medical standards, including those of the U.S. Department of Transportation and Federal Aviation Administration as well as medical criteria that reflect progressions in medical science including updated terminology, current medical practices, criteria for normality, and risk assessments.

Regulatory Guide 1.134 is under revision to identify to licensees that ANSI/ANS 3.4-2013 is acceptable for their use. The guide helps to ensure that medical certifications (and related medical evidence) used to meet the operator licensing requirements of 10 CFR part 55 are sufficient with respect to (1) an applicant's or operator licensee's medical examination, as described in 10 CFR 55.21, “Medical Examination”; (2) a facility licensee's medical certification, as described in 10 CFR 55.23, “Certification”; (3) an operator licensee's incapacitation because of disability or illness, as described in 10 CFR 55.25, “Incapacitation Because of Disability or Illness”; (4) a facility licensee's medical documentation, as described in 10 CFR 55.27, “Documentation”; (5) the NRC's disposition of an initial application for an operator license, as described in 10 CFR 55.33(a)(1) and (b); and (6) renewal of operator licenses, as described in 10 CFR 55.57(a)(6) and (b)(1).

III. Backfitting and Issue Finality

This DG, if finalized, would provide updated guidance on the methods acceptable to the NRC staff for complying with the NRC's regulations associated with approval or acceptance of the medical assessment of an applicant for or holder of an operator or senior operator license at a nuclear power plant. The draft guide would apply to current and future applicants for and holders of power reactor licenses under 10 CFR parts 50 and 52 and power reactor operating licenses under 10 CFR part 55. Issuance of this DG in final form would not constitute backfitting under 10 CFR part 50 and would not be otherwise inconsistent with the issue finality provisions in 10 CFR Part 52. As discussed in the “Implementation” section of this DG, the NRC has no current intention to impose the RG on current holders of 10 CFR part 50 operating licenses or 10 CFR part 52 combined licenses. Part 55 does not contain backfitting or issue finality regulations, and power reactor operating licensees are not protected by the backfitting provisions in 10 CFR 50.109 or the 10 CFR part 52 issue finality provisions because neither 10 CFR 50.109 nor 10 CFR part 52 applies to 10 CFR part 55 power reactor operating licensees.

This RG could be applied to applications for 10 CFR part 50 operating licenses, 10 CFR part 52 combined licenses, or 10 CFR part 55 operator licenses. Such action would not constitute backfitting as defined in 10 CFR 50.109 or be otherwise inconsistent with the applicable issue finality provision in 10 CFR part 52, inasmuch as such applicants are not within the scope of entities protected by 10 CFR 50.109 or the relevant issue finality provisions in 10 CFR part 52.

Dated at Rockville, Maryland, this 18th day of April, 2014.
For the Nuclear Regulatory Commission.
Thomas H. Boyce,
Chief, Regulatory Guidance and Generic Issues Branch, Division of Engineering, Office of Nuclear Regulatory Research.

[FR Doc. 2014-09443 Filed 4-24-14; 8:45 am]

BILLING CODE 7590-01-P